DEPARTMENT OF JUSTICE

Notice of Lodging of Settlement Agreement Pursuant to the Comprehensive Environmental Response Compensation and Liability Act (“CERCLA”)

Notice is hereby given that on September 20, 2005, a proposed Settlement Agreement in In re Huffy Corp., No. 04-39148 through 04-39167, was lodged with the United States Bankruptcy Court for the Southern District of Ohio.

On March 14, 2005, the United States, on behalf of the Environmental Protection Agency (“EPA”), filed a Proof of Claim under Section 107(a) of the Comprehensive Environmental Response, Compensation, and Recovery Act, as amended (“CERCLA”), 42 U.S.C. 9607(a), against Debtor Huffy Corporation seeking recovery of $20.6 million in unrecovered costs previously incurred, plus interest, and estimated future oversight costs of $2 million at the Baldwin Park Operable Unit (“BPOU”) of the San Gabriel Superfund Site located in Los Angeles County, California for remedy that will cost approximately $200 million. EPA's Proof of Claim also seeks $2.1 million in unrecovered costs previously incurred, plus interest, and estimated future costs of $8 million at the Lammers Barrel Superfund Site in Beavercreek, Ohio. The Settlement Agreement provides that the United States will have an allowed general unsecured claim against the Debtor in the amount of $1,050,000 for both sites, and that Huffy Corporation will pay the United States $246,000 to resolve the allowed claim from the proceeds of certain insurance settlements. The Settlement will be contingent upon Court approval of the insurance settlements.

The Department of Justice will receive for a period of thirty (30) days from the date of this publication comments relating to the Consent Decree. Comments should be addressed to the Assistant Attorney General, Environment and Natural Resources Division, P.O. Box 7611, U.S. Department of Justice, Washington, DC 20044-7611, and should refer to In re Huffy Corp., Nos. 04-39148-39167, D.J. Ref. 90-11-3-07706/1.

The Consent Decree may be examined at the Office of the United States Attorney, Southern District of Ohio, Western Division, 200 W. Second Street, Room 602, Dayton, Ohio 45402 (contact Assistant United States Attorney Dale Ann Goldberg), at U.S. EPA Region V, 77 West Jackson Blvd., Chicago, IL 60604 (contact Assistant Regional Maria Gonzalez), and U.S. EPA Region IX, 75 Hawthorne St., San Francisco, CA 94105 (contact Senior Attorney Lewis Maldonado, Office of Regional Counsel). During the public comment period, the Consent Decree, may also be examined on the following Department of Justice Web site: http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202 514-0097, phone confirmation number (202) 514-1547. In requesting a copy form the Consent Decree Library, please enclose a check in the amount of $8.25 (25 cents per page reproduction cost) payable to the U.S. Treasury.

William D. Brighton,
Assistant Chief, Environmental, Enforcement Section, Environment and Natural Resources Division.

[FR Doc. 05-19170 Filed 9-26-05; 8:45am]

BILLING CODE 4410-15-M